DEPARTMENT OF THE INTERIOR

U.S. Geological Survey

[GX15EE000101100]

Public Review of the Draft Part 2 (Revision), Digital Orthoimagery, of the Federal Geographic Data Committee (FGDC) Geographic Information Framework Data Standard

AGENCY: U.S. Geological Survey, Interior.

ACTION: Notice; request for comment

SUMMARY: The Federal Geographic Data Committee (FGDC) is conducting a public review of the draft Part 2 (revision), Digital Orthoimagery, of the FGDC Geographic Information Framework Data Standard.

The primary purpose of Part 2, Digital Orthoimagery, of the FGDC Geographic Information Framework Data Content Standard is to support exchange of orthoimagery data. Part 2 seeks to establish a common baseline for the semantic content of orthoimagery databases for public agencies and private enterprises. It also seeks to decrease the costs and simplify the exchange of orthoimagery data among local, Tribal, State, and Federal users and producers. That, in turn, discourages duplicative data collection. Benefits of adopting Part 2 also include the long-term improvement of geospatial orthoimagery data within the community.

The draft Part 2 (revision), Digital Orthoimagery, of the FGDC Geographic Information Framework Data Standard, may be downloaded from https://www.fgdc.gov/standards/projects/FGDC-standards-projects/framework-data-standard/DraftRevisionPart2. Comments shall be submitted using the content template at http://www.fgdc.gov/standards/process/standards-directives/template.doc. Instructions for completing the comment template are found in FGDC Standards Directive #2d, Standards Working Group Review Guidelines: Review Comment Template, http://www.fgdc.gov/standards/process/standards-directives/directive-2d-standards-working-group-review-guidelines-review-comment-template.

Comments that concern specific issues/changes/additions may result in changes in the draft Part 2 (revision), Digital Orthoimagery, of the FGDC Geographic Information Framework Data Standard. Reviewers may obtain information about how comments were addressed upon request. After FGDC endorsement of Part 2 (revision), Digital Orthoimagery, of the FGDC Geographic Information Framework Data Standard and a summary analysis of the changes will be made available to the public on the FGDC Web site, www.fgdc.gov.

DATES: Comments on the draft Part 2 (revision), Digital Orthoimagery, of the FGDC Geographic Information Framework Data Standard, shall be submitted to Ms. Julie Binder Maitra, FGDC Standards Coordinator, jmaitra@fgdc.gov by March 24, 2015.

FOR FURTHER INFORMATION CONTACT: Ms. Julie Binder Maitra, U.S. Geological Survey, Federal Geographic Data Committee, jmaitra@fgdc.gov, 703-648-4627

SUPPLEMENTARY INFORMATION: Part 2, Digital Orthoimagery, of the FGDC Geographic Information Framework Data Standard specifies data content and logical structure for the description and interchange of framework digital orthoimagery. To a certain extent, it also provides guidelines for the acquisition and processing of imagery for generation of digital orthoimagery and specifies the documentation of those acquisition and processing steps. The primary focus of Part 2 is on images sensed in the visible to near infrared portion of the electromagnetic spectrum; however, images captured from other portions of the electromagnetic spectrum are not precluded.

It is the intent of Part 2, Digital Orthoimagery, of the FGDC Geographic Information Framework Data Standard to set a common baseline that will ensure the widest utility of digital orthoimagery for the user and producer communities through enhanced data sharing and the reduction of redundant data production. Part 2 stresses complete and accurate reporting of information relating to quality control and standards employed in testing orthoimagery data.

Part 2, Digital Orthoimagery, of the FGDC Geographic Information Framework Data Standard applies to orthoimagery data produced or disseminated by or for the Federal government. According to Office of Management and the Budget (OMB) Circular A-16 (Revised) on Coordination of Geographic Information Related Spatial Data Activities, Federal agencies collecting or producing geospatial data, either directly or indirectly (for example, through grants, partnerships, or contracts with other entities), shall ensure, prior to obligating funds for such activities, that data will be collected in a manner that meets all relevant standards adopted through the Federal Geographic Data Committee (FGDC) process.

Work on the FGDC Geographic Information Framework Data Standard began under the Geospatial One-Stop e-Government initiative. The FGDC subsequently endorsed the Geographic Information Framework Data Standard, Parts 1-7, in 1998. Part 2 needed to be revised due to technological changes, such as the transition from film to digital cameras. The main changes included adding new terms, clarification of definitions, and typo fixes.

The FGDC coordinates the development of the National Spatial Data Infrastructure (NSDI), which encompasses the policies, standards, and procedures for organizations to cooperatively produce and share geospatial data. Federal agencies that make up the FGDC develop the NSDI in cooperation with organizations from State, local and tribal governments, the academic community, and the private sector. The authority for the FGDC is OMB Circular No. A-16 Revised on Coordination of Geographic Information and Related Spatial Data Activities (Revised August 19, 2002). More information on the FGDC and the NSDI is available at http://www.fgdc.gov.

Kenneth Shaffer,
Deputy Executive Director, Federal Geographic Data Committee.

[FR Doc. 2014-30117 Filed 12-23-14; 8:45 am]

BILLING CODE 4311-AM-P